DEPARTMENT OF HOMELAND SECURITY

Coast Guard

33 CFR Part 117

[Docket No. USCG-2008-1158]

RIN 1625-AA09

Drawbridge Operation Regulation; Gulf Intracoastal Waterway (Algiers Alternate Route), Belle Chasse, LA

AGENCY: Coast Guard, DHS.

ACTION: Notice of proposed rulemaking; withdrawal.

SUMMARY: The Coast Guard is withdrawing its notice of proposed rulemaking concerning the operation of the SR 23 bridge across the Gulf Intracoastal Waterway (Algiers Alternate Route), mile 3.8, at Belle Chasse, Plaquemines Parish, Louisiana. The notice of proposed rulemaking proposed to allow the bridge to remain closed-to-navigation for an additional 90 minutes during weekday afternoons to facilitate the movement of vehicular traffic.

DATES: The notice of proposed rulemaking published at 73 FR 13161, March 26, 2009, is withdrawn on August 20, 2009.

ADDRESSES: The docket for this withdrawn rulemaking is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2008-1158 in the “Keyword” box and then clicking “Search.”

FOR FURTHER INFORMATION CONTACT: If you have any questions about this notice, call or e-mail David Frank, Bridge Administration Branch, telephone (504) 671-2128, e-mail David.m.frank@uscg.mil. If you have questions on viewing material in the docket, call Renee V. Wright, Program Manager, Docket Operations, telephone 202-366-9826.

SUPPLEMENTARY INFORMATION:

Background

On March 26, 2009, we published a notice of proposed rulemaking entitled “Drawbridge Operation Regulations; Gulf Intracoastal Waterway (Algiers Alternate Route), Belle Chasse, LA” in the Federal Register (74 FR 13161). The rulemaking concerned a change to the regulation governing the operation of the SR 23 bridge across the Gulf Intracoastal Waterway (Algiers Alternate Route), mile 3.8, at Belle Chasse, Plaquemines Parish, Louisiana. Presently, the draw of the bridge need not open for the passage of vessels in the afternoon from 3:30 p.m. until 5:30 p.m. Plaquemines Parish Government requested that an additional 90 minutes be added to the closure in the afternoon so that the draw need not open for the passage of vessels from 3:30 p.m. until 7 p.m.

Withdrawal

On site analysis of the traffic patterns around the bridge and proposed modernization of the traffic lights on SR 23 which will improve the traffic flow indicate that the change is not warranted at this time. It was also determined that due to the increased time that the bridge was not required to open, longer delays at the end of the closure period were experienced by vehicular traffic. Additionally, road construction on another arterial roadway has caused a spike in traffic that should adjust following completion of the roadwork. Following all repairs to the bridge, modernization of the traffic management scheme, and the roadway repairs, if the Plaquemines Parish Government wishes to reapply for a change in the operating schedule, the Coast Guard will conduct a new investigation to determine if changes to the operating schedule are warranted.

Authority: This action is taken under the authority of 33 U.S.C. 499; 33 CFR 1.05-1; Department of Homeland Security Delegation No. 0170.1.

Dated: August 4, 2009.
Mary E. Landry,
Rear Admiral, U.S. Coast Guard Commander, Eighth Coast Guard District.

[FR Doc. E9-19957 Filed 8-19-09; 8:45 am]

BILLING CODE 4910-15-P